DEPARTMENT OF LABOR

Employment and Training Administration

[TA-W-53,210]

Connector Service Corporation, Overland Bolling Company, Dallas, TX; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on November 21, 2003, applicable to workers of Connector Service Corporation, Dallas, Texas. The notice was published in the Federal Register on December 29, 2003 (68 FR 74979).

At the request of the State agency, the Department reviewed the certification for workers of the subject firm. The workers were engaged in the production of electronic connectors.

New information shows that Connector Service Corporation purchased Overland Bolling Company in 2003. Workers separated from employment at the subject firm had their wages reported under a separate unemployment insurance (UI) tax account for Overland Bolling Company.

Accordingly, the Department is amending the certification to properly reflect this matter.

The intent of the Department's certification is to include all workers of Connector Service Corporation who were adversely affected by a shift in production to Mexico.

The amended notice applicable to TA-W-53,210 is hereby issued as follows:

All workers of Connector Service Corporation, Overland Bolling Company, Dallas, Texas, who became totally or partially separated from employment on or after October 9, 2002, through November 21, 2005, are eligible to apply for adjustment assistance under Section 223 of the Trade Act of 1974, and are also eligible to apply for alternative trade adjustment assistance under Section 246 of the Trade Act of 1974.

Signed at Washington, DC, this 21st day of May, 2004.
Linda G. Poole,
Certifying Officer, Division of Trade Adjustment Assistance.

[FR Doc. 04-12387 Filed 6-1-04; 8:45 am]

BILLING CODE 4510-30-P